ENVIRONMENTAL PROTECTION AGENCY

[ER-FRL-8594-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated April 17, 2009 (74 FR 17860).

Draft EISs

EIS No. 20090066, ERP No. D-AFS-L65569-OR, Tracy Placer Mining Project, Proposing Mine Development on a Portion of the Unpatented Cedar Gulch Group Placer Claim, Plan-of-Operations, Wild Rivers Ranger District, Rogue River-Siskiyou National Forest, Josephine County, OR.

Summary: EPA expressed environmental objections to Alternative 2 based on the likelihood of mining and timber harvest activities to increase temperatures in Sucker Creek, and impact Cedar Gulch and the un-named creek in the project area. In addition, we have concerns about potential impacts to listed species; coho salmon and northern spotted owl, and reclamation and long term site recovery. Rating EO2.

EIS No. 20090071, ERP No. D-FHW-F40447-OH, Cleveland Innerbelt Project, Proposing Major Rehabilitation and Reconstruction between I-71 and I-90, Cleveland Central Business District, Funding, City of Cleveland, Cuyahoga County, OH.

Summary: EPA expressed environmental concerns about stormwater impacts. Rating EC2.

EIS No. 20090087, ERP No. D-FRA-K59009-00, DesertXpress High-Speed Passenger Train Project, Proposes to Construct and Operate High-Speed Passenger Train between Victorville, California and Las Vegas, Nevada.

Summary: EPA expressed environmental concerns about impacts to hydrology, aquatic resources, air quality, and wildlife movement. Rating EC2.

EIS No. 20090137, ERP No. D-AFS-K65362-CA, Sierra National Forest Travel Management Plan, To Prohibit Motorized Vehicle Travel Off Designated National Forest Transportation System (NFIS) Roads, Trails and Area, Fresno, Mariposa, Madera Counties, CA.

Summary: EPA expressed environmental concerns about impacts to watersheds with significant water quality impairment. Rating EC2.

Final EISs

EIS No. 20090128, ERP No. F-AFS-K65347-CA, Gemmill Thin Project, Proposal to Reduce the Intensity and Size of Future Wildfires, and to Maintain/Improve Ecosystem Function and Wildlife Habitat, Chanchellula Late-Successional Reserve, Shasta-Trinity National Forest, Trinity County, CA.

Summary: EPA continues to have environmental concerns about the criteria and decision-making process that will be use in this thinning project.

EIS No. 20090138, ERP No. FA-COE-K36098-CA, Santa Ana River Interceptor (SARI) Protection/Relocation Project, Reduce the Risk of Damage to the SARI to allow for the Operation of Santa Ana River Project (SARP), and Releases from Prado Dam of up to 30,000 cubic feet per second (cfs), Right-of-Way Permit and US COE Section 404 Permit, Orange and Riverside Counties, CA.

Summary: EPA's previous concerns have been resolved; therefore, EPA does not object to the proposed action.

Dated: June 23, 2009.
Robert W. Hargrove,
Director, NEPA Compliance Division, Office of Federal Activities.

[FR Doc. E9-15140 Filed 6-25-09; 8:45 am]

BILLING CODE 6560-50-P